DEPARTMENT OF DEFENSE

Office of the Secretary

[Docket ID: DOD-2010-OS-0026]

Privacy Act of 1974; System of Records

AGENCY: Defense Information Systems Agency, DoD.

ACTION: Notice to add a system of records.

SUMMARY: The Defense Information Systems Agency is proposing to add a system of records to its inventory of records system subject to the Privacy Act of 1974, (5 U.S.C. 552a), as amended.

DATES: This proposed action will be effective without further notice on April 19, 2010 unless comments are received which result in a contrary determination.

ADDRESSES: You may submit comments, identified by docket number and title, by any of the following methods:

Federal Rulemaking Portal: http://www.regulations.gov. Follow the instructions for submitting comments.

• Mail: Federal Docket Management System Office, 1160 Defense Pentagon, Washington, DC 20301-1160.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Jeanette M. Weathers-Jenkins at (703) 681-2409.

SUPPLEMENTARY INFORMATION: The Defense Information Systems Agency system of records notices subject to the Privacy Act of 1974, (5 U.S.C. 552a), as amended, have been published in the Federal Register and are available from: Defense Information Systems Agency, 5600 Columbia Pike, Room 933-I, Falls Church, VA 22041-2705.

The proposed system report, as required by 5 U.S.C. 552a (r), of the Privacy Act of 1974, as amended, was submitted on March 5, 2010, to the House Committee on Oversight and Government Reform, the Senate Committee on Homeland Security and Governmental Affairs, and the Office of Management and Budget (OMB) pursuant to paragraph 4c of Appendix I to OMB Circular No. A-130, “Federal Agency Responsibilities for Maintaining Records About Individuals,” dated February 8, 1996 (February 20, 1996; 61 FR 6427).

Dated: March 15, 2010.
Mitchell S. Bryman,
Alternate OSD Federal Register Liaison Officer, Department of Defense.

K890.12

System name:

Identity Management (IDM)

System location:

Defense Information Systems Agency (DISA), 401 East Moore Drive, Montgomery, AL 36114-1300.

Categories of individuals covered by the system:

DISA civilian employees, military personnel assigned or detailed to DISA, and contractors assigned to all DISA elements, including DISA field activities.

Categories of records in the system:

Individual's name, duty title, grade, Social Security Number (SSN), address and phone number and Common Access Card identification number.

Authority for maintenance of the system:

5 U.S.C. 301, Departmental Regulation; 10 U.S.C. Chp. 8, Defense Agencies and Department of Defense Field Activities; DoD Directive 5105.19, Defense Information Systems Agency (DISA); E.O. 9397 (SSN), as amended.

Purpose(s):

Provide a standardized web based work flow for the current Identity Management (IDM) process and provides approval for new users to gain access to additional systems within DISA. Also used as a management tracking tool.

Routine uses of records maintained in the system, including categories of users and the purposes of such uses:

In addition to those disclosures generally permitted under 5 U.S.C. 552a(b) of the Privacy Act of 1974, these records contained therein may specifically be disclosed outside the DoD as a routine use pursuant to 5 U.S.C. 552a(b)(3) as follows:

The `Blanket Routine Uses' set forth at the beginning of the DISA's compilation of systems of records notices apply to this system.

Policies and practices for storing, retrieving, accessing, retaining, and disposing of records in the system:

Storage:

Electronic storage media.

Retrievability:

By name, last 8 digits of the Common Access Card identification number, and/or Social Security Number (SSN).

Safeguards:

Buildings are secured by guards during duty and non-duty hours. Access to records is controlled by management personnel, who are responsible for maintaining the confidentiality of the records and using the information contained therein only for official purposes. Access to personal information is restricted to those who require the records in the performance of their official duties. Access to personal information is further restricted by the use of Common Access Card (CAC) certification.

Retention and disposal:

Records are continuously updated. Obsolete computer records are erased or overwritten.

System manager(s) and address:

GS4M2, Defense Information Systems Agency, 401 East Moore Drive, Montgomery, AL 36114-1300.

Notification procedure:

Individuals seeking to determine whether information about themselves is contained in this system of records should address written inquiries to GS4M2, Defense Information Systems Agency, 401 East Moore Drive, Montgomery, AL 36114-1300.

The individual should make reference to the office where he/she is/was assigned or affiliated and include address and telephone number applicable to the period during which the record was maintained. Social Security Number (SSN) should be included in the inquiry for positive identification.

Record access procedures:

Individuals seeking access to information about themselves contained in this system of records should address written inquiries to GS4M2, Defense Information Systems Agency, 401 East Moore Drive, Montgomery, AL 36114-1300.

The individual should make reference to the office where he/she is/was assigned or affiliated and include address and telephone number applicable to the period during which the record was maintained. Social Security Number (SSN) should be included in the inquiry for positive identification.

Contesting record procedures:

DISA's rules for accessing records, for contesting contents and appealing initial agency determinations are published in DISA Instruction 210-225-2 at 32 CFR part 316 or may be obtained from the system manager.

Record source categories:

Information gathered from information stored on CAC and the individual.

Exemptions claimed for the system:

None.

[FR Doc. 2010-5962 Filed 3-17-10; 8:45 am]

BILLING CODE 5001-06-P